DEPARTMENT OF HEALTH AND HUMAN SERVICES

Centers for Disease Control and Prevention

CDC/HRSA Advisory Committee on HIV, Viral Hepatitis and STD Prevention and Treatment (CHAC); Correction

Notice is hereby given of a change in the meeting of the CDC/HRSA Advisory Committee on HIV, Viral Hepatitis and STD Prevention and Treatment (CHACHSPT); April 12, 2021, from 3:00 p.m. to 5:00 p.m., EDT, in the original FRN.

The web conference meeting was published in the Federal Register on February 26, 2021, Volume 86, Number 37, page 11777.

The web conference meeting is being corrected to update the summary and contact information and should read as follows: This meeting is open to the public.

SUMMARY: In accordance with the Federal Advisory Committee Act, the CDC and the Health Resources and Services Administration (HRSA), announces the following meeting for the CDC/HRSA Advisory Committee on HIV, Viral Hepatitis and STD Prevention and Treatment (CHACHSPT). This business meeting is open to the public, limited only by audio and web conference lines (1000 audio and web conference lines are available). The public is welcome to listen to the meeting by accessing the telephone number 1-669-254-5252, and the passcode is 55572151 (1000 lines are available). The web conference access is https://cdc.zoomgov.com/j/1606419940?pwd=V2krVkVXbGtvVFdLbXV3N25PbTV4UT09, webinar ID: 160 641 9940 and passcode: ZeTt@2VL. Due to the nature and time limitations of the meeting, members of the public will not have an opportunity to provide oral comments, although written comments may be submitted prior to the meeting, or up to 10 business days after the meeting, to Staci Morris at smorris4@cdc.gov.

FOR FURTHER INFORMATION CONTACT: Staci Morris, MS, Public Health Advisor, Office of Policy, Planning and Partnerships, National Center for HIV/AIDS, Viral Hepatitis, STD, and TB Prevention, CDC, 1600 Clifton Road NE, Atlanta, GA 30329-4027, Telephone (404) 718-7479; smorris4@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-05217 Filed 3-12-21; 8:45 am]

BILLING CODE 4163-18-P